DEPARTMENT OF ENERGY

Federal Energy Regulatory Commission

Combined Notice of Filings #2

Take notice that the Commission received the following electric corporate filings:

Docket Numbers: EC14-74-000.

Applicants: CSOLAR IV West, LLC, AES Solar Power, LLC, Silver Ridge Power, LLC.

Description: Joint Application For Approval Under Section 203 of the Federal Power Act of CSOLAR IV West, LLC, et. al.

Filed Date: 4/8/14.

Accession Number: 20140408-5111.

Comments Due: 5 p.m. ET 4/29/14.

Take notice that the Commission received the following electric rate filings:

Docket Numbers: ER10-1910-004; ER10-1908-004; ER10-1909-004; ER10-1911-004.

Applicants: Duquesne Conemaugh LLC, Duquesne Keystone LLC, Duquesne Light Company, Duquesne Power, LLC.

Description: Supplement to December 27, 2013 Notice of Non-Material Change in Status of the Duquesne Utilities.

Filed Date: 4/1/14.

Accession Number: 20140401-5249.

Comments Due: 5 p.m. ET 4/22/14.

Docket Numbers: ER12-21-008; ER13-520-001; ER13-521-001; ER13-1441-001; ER13-1442-001; ER12-1626-002; ER13-1266-001; ER13-1267-001; ER13-1268-001; ER13-1269-001; ER13-1270-001; ER13-1271-001; ER13-1272-001; ER13-1273-001; ER10-2605-005.

Applicants: Agua Caliente Solar, LLC, Pinyon Pines Wind I, LLC, Pinyon Pines Wind II, LLC, Solar Star California XIX, LLC, Solar Star California XX, LLC, Topaz Solar Farms LLC, CalEnergy, LLC,CE Leathers Company, Del Ranch Company, Elmore Company, Fish Lake Power LLC, Salton Sea Power Generation Company, Salton Sea Power L.L.C., Vulcan/BN Geothermal Power Company, Yuma Cogeneration Associates.

Description: Supplement to June 26, 2013 Updated Market Power Analysis of the MidAmerican Southwest MBR Sellers.

Filed Date: 4/7/14.

Accession Number: 20140407-5425.

Comments Due: 5 p.m. ET 4/28/14.

Docket Numbers: ER12-458-005.

Applicants: Quantum Choctaw Power, LLC.

Description: Notice of Non-Material Change in Status of Quantum Choctaw Power, LLC.

Filed Date: 4/8/14.

Accession Number: 20140408-5118.

Comments Due: 5 p.m. ET 4/29/14.

Docket Numbers: ER13-1748-001.

Applicants: Southwest Power Pool, Inc.

Description: Amendment to Order No. 755 Compliance to be effective 3/1/2015.

Filed Date: 4/7/14.

Accession Number: 20140407-5353.

Comments Due: 5 p.m. ET 4/28/14.

Docket Numbers: ER13-2124-001.

Applicants: Midcontinent Independent System Operator, Inc.

Description: 2014-04-07 Docket No. ER12-2124-000_RSG Netting Compliance to be effective 3/17/2014.

Filed Date: 4/7/14.

Accession Number: 20140407-5332.

Comments Due: 5 p.m. ET 4/28/14.

Docket Numbers: ER14-1325-001.

Applicants: Northern States Power Company, a Wisconsin corporation, Northern States Power Company, a Minnesota corporation.

Description: 20140408 IA Deferral to be effective 1/1/2014.

Filed Date: 4/8/14.

Accession Number: 20140408-5114.

Comments Due: 5 p.m. ET 4/29/14.

Docket Numbers: ER14-1680-000.

Applicants: Allegany Generating Station LLC.

Description: Application of Allegany Generating Station LLC for Waiver of NYISO Procedures, and Request for Expedited Treatment and Shortened Comment Period.

Filed Date: 4/7/14.

Accession Number: 20140407-5363.

Comments Due: 5 p.m. ET 4/14/14.

Docket Numbers: ER14-1681-000.

Applicants: Illinois Municipal Electric Agency.

Description: Request for Limited Waiver and Expedited relief of the Illinois Municipal Electric Agency.

Filed Date: 4/7/14.

Accession Number: 20140407-5434.

Comments Due: 5 p.m. ET 4/17/14.

Docket Numbers: ER14-1682-000.

Applicants: Public Service Company of New Hampshire.

Description: PSNH FERC Rate Schedule No. SA-1—Brookfield Power U.S. Asset Management LLC to be effective 4/8/2014.

Filed Date: 4/8/14.

Accession Number: 20140408-5094.

Comments Due: 5 p.m. ET 4/29/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 08, 2014.
Nathaniel J. Davis, Sr.,
Deputy Secretary.

[FR Doc. 2014-08509 Filed 4-14-14; 8:45 am]

BILLING CODE 6717-01-P